DEPARTMENT OF COMMERCE

National Oceanic and Atmospheric Administration

[RTID 0648-XF012]

Mid-Atlantic Fishery Management Council (MAFMC); Public Meeting

AGENCY: National Marine Fisheries Service (NMFS), National Oceanic and Atmospheric Administration (NOAA), Commerce.

ACTION: Notice of public meeting.

SUMMARY: The Mid-Atlantic and New England Fishery Management Councils will hold a public meeting of their joint Northeast Trawl Advisory Panel.

DATES: The meeting will be held on Thursday, July 17, 2025 from 9 a.m. to 5 p.m. For agenda details, see SUPPLEMENTARY INFORMATION.

ADDRESSES: This meeting will be conducted in person with a virtual option available. The meeting will be held at the New Bedford Port Authority 123 MacArthur Dr, New Bedford, MA 02740; telephone: (508) 961-3000. Webinar registration details will be posted to the calendar at www.mafmc.org prior to the meeting.

Council address: Mid-Atlantic Fishery Management Council, 800 N State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The Councils' Northeast Trawl Advisory Panel (NTAP) will meet to review recent developments related to relevant fishery surveys, the Moulton Task Force, and an update on the Regional Industry-Based Trawl Survey pilot project that the NTAP Working Group has been developing. The NTAP will also discuss recent and ongoing scientific fishing efforts that are operating in and around wind farms, including guest speakers from the Virginia Institute of Marine Science, University of Massachusetts School of marine Science and Technology, Rutgers University, and Cornell Cooperative Extension of Suffolk County.

Special Accommodations

The meeting is physically accessible to people with disabilities. Requests for sign language interpretation or other auxiliary aids should be directed to Shelley Spedden, (302) 526-5251 at least 5 days prior to the meeting date.

(Authority: 16 U.S.C. 1801 et seq.)

Dated: July 1, 2025.
Rey Israel Marquez,
Acting Deputy Director, Office of Sustainable Fisheries, National Marine Fisheries Service.

[FR Doc. 2025-12474 Filed 7-2-25; 8:45 am]

BILLING CODE 3510-22-P